DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. chapter 35).

Agency: United States Patent and Trademark Office (USPTO).

Title: United States Patent Applicant Survey.

Form Number(s): None. The surveys contained in this information collection do not have USPTO form numbers assigned to them. When the surveys are approved, they will carry the OMB Control Number and the date on which OMB's approval of the information collection expires.

Agency Approval Number: 0651-00XX.

Type of Request: New collection.

Burden: 187 hours.

Number of Respondents: 445 responses.

Avg. Hours Per Response: 7 or 30 minutes, depending on the survey.

The USPTO estimates that it takes an average of 7 minutes (0.12 hours) to complete the surveys for the independent inventors and that it takes an average of 30 minutes (0.50 hours) to complete the surveys for large domestic corporations, small to medium-size businesses, and universities and non-profit research organizations. This includes the time to gather the necessary information, respond to the surveys, and submit them to the USPTO. The USPTO believes that it takes the same amount of time to respond to the surveys, whether the completed surveys are mailed to the USPTO or completed online.

Needs and Uses: The USPTO developed the United States Patent Applicant Survey to obtain information on customer filing intentions in order to predict future growth rates in patent applications over the next four years from patent-generating entities. The USPTO also developed this survey in response to the Senate Appropriations Report 106-404 (September 8, 2000), which directed the USPTO to “develop a workload forecast with advice from a representative sample of industry and the inventor community.” There are three versions of this survey: one for large domestic corporations and small to medium-size businesses, one for universities and non-profit research organizations, and another for independent inventors. The top 209 patent-generating corporations and other large businesses, small to medium-size businesses, universities and non-profit research organizations, and independent inventors responding to these surveys will provide the USPTO with the number of filings (domestic, international, or combined) that they plan to submit, in addition to providing general feedback concerning industry trends and the survey itself. The USPTO will use this feedback to estimate future revenue flow, allocate resources, and determine quality control measures to meet filing demands.

The initial survey was reviewed and approved by OMB under OMB Control Number 0651-0038 Customer Input, Patent and Trademark Customer Surveys, the USPTO's generic customer survey clearance. However, due to the fact that the USPTO will use this survey to predict workload and revenue flow and the fact that the survey methodology has matured, the USPTO is submitting this survey separately to OMB for review and approval and not under the generic clearance.

Affected Public: Individuals or households; business or other for-profit; and not-for-profit institutions.

Frequency: On occasion.

Respondent's Obligation: Voluntary.

OMB Desk Officer: David Rostker, (202) 395-3897.

Copies of the above information collection proposal can be obtained by any of the following methods:

E-mail: Susan.Brown@uspto.gov. Include “0651-00XX United States Patent Applicant Survey copy request” in the subject line of the message.

Fax: 703-308-7407, marked to the attention of Susan Brown.

Mail: Susan K. Brown, Records Officer, Office of the Chief Information Officer, Office of Data Architecture and Services, Data Administration Division, U.S. Patent and Trademark Office, P.O. Box 1450, Alexandria, VA 22313-1450.

Written comments and recommendations for the proposed information collection should be sent on or before September 3, 2004, to David Rostker, OMB Desk Officer, Room 10202, New Executive Office Building, 725 17th Street, NW., Washington, DC 20503.

Dated: July 29, 2004.
Susan K. Brown,
Records Officer, USPTO, Office of Data Architecture and Services, Data Administration Division.

[FR Doc. 04-17749 Filed 8-3-04; 8:45 am]

BILLING CODE 3510-16-P